DEPARTMENT OF HOMELAND SECURITY

Federal Emergency Management Agency

[Docket ID: FEMA-2007-0008]

National Advisory Council Teleconference Meeting

AGENCY: Federal Emergency Management Agency, DHS.

ACTION: Notice of teleconference meeting.

SUMMARY: The National Advisory Council (NAC) will be holding a teleconference meeting for the purpose of discussing revisions to the National Exercise Program (NEP). The teleconference meeting will be open to the public.

DATES: Meeting Date: Wednesday, November 10, 2010 from approximately 3 p.m. e.s.t. to 5 p.m. e.s.t.

Comment Date: Written comments must be received by Wednesday, November 3, 2010.

ADDRESSES: The meeting will be held via teleconference only. Members of the public who wish to obtain the listen-only call-in number, access code, and other information for the public teleconference may contact Alyson Price as listed in the FOR FURTHER INFORMATION CONTACT section by Wednesday, November 3, 2010. All written comments must be received by Wednesday, November 3, 2010. All submissions received must include the Docket ID FEMA-2007-0008 and may be submitted by any one of the following methods:

Federal Rulemaking Portal: http://www.regulations.gov. Follow the instructions for submitting comments on the Web site.

E-mail: FEMA-RULES@dhs.gov. Include Docket ID FEMA-2007-0008 in the subject line of the message.

Facsimile: (703) 483-2999.

Mail: FEMA, Office of Chief Counsel, 500 C Street, SW., Room 840, Washington, DC 20472-3100.

Hand Delivery/Courier: FEMA, Office of Chief Counsel, 500 C Street, SW., Room 840, Washington, DC 20472-3100.

Instructions: All submissions received must include the docket ID: FEMA-2007-0008. Comments received will also be posted without alteration at http://www.regulations.gov, including any personal information provided. You may want to read the Privacy Act Notice, which is found via the Privacy Notice link in the footer of http://www.regulations.gov.

Docket: For access to the docket to read documents or comments received by the National Advisory Council, go to http://www.regulations.gov.

FOR FURTHER INFORMATION CONTACT: Alyson Price, Designated Federal Officer, FEMA, 500 C Street, SW., Room 832, Washington, DC 20472-3100, telephone 202-646-3746, fax 202-646-3930, and e-mail FEMA-NAC@dhs.gov. The NAC Web site is located at: http://www.fema.gov/about/nac/.

SUPPLEMENTARY INFORMATION: Notice of this meeting is required under the Federal Advisory Committee Act (FACA), Public Law 92-463, as amended (5 U.S.C. App. 1 et seq.).

The Department of Homeland Security/Federal Emergency Management Agency (DHS/FEMA) is working to revise the NEP to incorporate key tenets, principles, and structures based on the Secretary's August 17, 2010 directive. FEMA will be conducting a public teleconference with the NAC to brief it on the planned program revisions and to obtain the Council's input on the NEP reform.

The meeting is open to the public. Although members of the public will not be allowed to comment orally during the meeting, they may file a written statement with the NAC before the date of the meeting. For those wishing to submit written comments, please follow the procedure described in the ADDRESSES section.

Dated: October 15, 2010.
W. Craig Fugate,
Administrator, Federal Emergency Management Agency.

[FR Doc. 2010-26593 Filed 10-20-10; 8:45 am]

BILLING CODE 9111-48-P